SMALL BUSINESS ADMINISTRATION

Data Collection Available for Public Comments

ACTION: 60-Day notice and request for comments

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before August 18, 2025.

ADDRESSES: Send all comments to Tamara Edge, Acting Chief, Disaster Loan Division, Office of Financial Assistance, Small Business Administration at 409 3rd Street SW, Washington, DC 20416 or email tamara.edge@sba.gov.

FOR FURTHER INFORMATION CONTACT: Tamara Edge, Acting Chief, Disaster Loan Division (202) 205-6674, tamara.edge@sba.gov or Shauniece Carter, Agency Clearance Officer, (202) 205-6536, Shauniece.Carter@sba.gov

SUPPLEMENTARY INFORMATION: The Disaster Assistance Customer Service Center (CSC) will conduct a brief survey of customers to determine their satisfaction with the services received from the CSC and the Field Operations Centers (FOC). The survey will be administered via automated phone applications, email through a web-based application, or on occasion, live interviews with trained specialists. The survey results will help the SBA enhance its delivery of critical financial assistance to disaster survivors.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0370.

Title: Disaster Assistance Customer Satisfaction Survey.

Description of Respondents: Disaster customers with inquiries concerning the disaster loan program.

Form Number: SBA Form 2313 CSC/FOC.

Total Estimated Annual Responses: 20,400.

Total Estimated Annual Hour Burden: 1,600.

Shauniece Carter,
Records Management Specialist.

[FR Doc. 2025-11130 Filed 6-16-25; 8:45 am]

BILLING CODE 8026-03-P